DEPARTMENT OF THE TREASURY

Submission for OMB Review; Comment Request

August 18, 2011.

The Department of the Treasury will submit the following public information collection requirement to OMB for review and clearance under the Paperwork Reduction Act of 1995, Public Law 104-13 on or after the date of publication of this notice. A copy of the submissions\ may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before September 22, 2011 to be assured of consideration.

Alcohol and Tabacco Tax and Trade Bureau (TTB)

OMB Number: 1513-0099.

Type of Review: Extension without change of a currently approved collection.

Title: Administrative Remedies—Closing Agreements.

Abstract: This is a written agreement between TTB and regulated taxpayers used to finalize and resolve certain tax-related issues. Once an agreement is approved, it will not be reopened unless fraud or misrepresentation of material facts is proven.

Respondents: Private Sector: Businesses or other for-profits.

Estimated Total Burden Hours: 1.

Clearance Officer: Gerald Isenberg, Alcohol and Tobacco Tax and Trade Bureau, Room 200 East, 1310 G Street, NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-21490 Filed 8-22-11; 8:45 am]

BILLING CODE 4810-31-P